DEPARTMENT OF JUSTICE

Antitrust Division

Notice Purusant to the National Cooperative Research and Production Act of 1993—Personalization Consortium, Inc.

Notice is hereby given that, on June 15, 2000, pursuant to Section 6(a) of the National Cooperative Research and Production Act of 1993, 15 U.S.C. 4301 et seq. (“the Act”), Personalization Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Next Click: The Personalization Agency, Calgary, Alberta, Canada; ul.Net, Marlton, NJ; BroadVision, Inc., Redwood City, CA; Elity Systems, Inc., Somerset, NJ; Peppers and Rogers Group, Stamford, CT; American Airlines, Fort Worth, TX; Frequency Marketing, Inc., Milford, OH; Sneakerlabs, Inc., Pittsburgh, PA; Wheelhouse Corporation, Burlington, MA; YOUpowered, New York, NY; Chell.com, Calgary, Alberta, Canada; icontact.com, Fairfield, CT; Servicesoft Technologies, Natick, MA; Magnify, Chicago, IL; Individualize.com, Calgary, Alberta, Canada; E.piphany, San Mateo, CA; eSupplies.com, Calgary, Alberta, Canada; KPMG Consulting, LLC, Mountain View, CA; i-Behavior Inc., White Plains, NY; !hey software inc., North Andover, MA; Nexgenix, Irvine, CA; exactis.com, Denver, CO; PrivaSeek, Broomfield, CO; eCustomers.com, Austin, TX; PricewaterhouseCoopers, New York, NY; DoubleClick, New York, NY; CustomerAnalytics, Dallas, TX; Protigen, Inc., Mountain View, CA; Unica Corporation, Lincoln, MA; Kurion, Austin, TX; MarketTools, Inc., Sausalito, CA; 24/7 Media, Inc., New York, NY; SPSS, Inc., Chicago, IL; k-Commerce Sales, a division of Inference, San Mateo, CA; Allaire Corporation, Cambridge, MA; Macromedia, Inc., San Francisco, CA; WISE iTech Co., Ltd., Seoul, Korea; Federated Investors, Inc., Pittsburgh, PA; Be Free, Inc., Marlborough, MA; SAS, Cary, NC; PrivacyRight, Inc., San Mateo, CA; BEA Systems, San Jose, CA; and CERES RO, Relationship Technology solutions by NCR, Raleigh, NC.

The nature and objectives of the venture are (a) to educate the market, sponsor research, foster standards and articulate the measurable benefits of personalization technologies and techniques; (b) to serve as a forum for discussion of related issues, sponsor industry research, develop open standards and guidelines and promote best practices; and (c) to undertake such other activities as may from time to time be appropriate to further the purposes and achieve the goals set forth above.

Constance K. Robinson,
Director of Operations, Antitrust Division.

[FR Doc. 00-20309 Filed 8-10-00; 8:45 am]

BILLING CODE 4410-11-M